DEPARTMENT OF AGRICULTURE

Food Safety and Inspection Service

[Docket No. 01-039N]

Notice of Request for New Information Collection Regarding Industry Practices

AGENCY: Food Safety and Inspection Service, USDA.

ACTION: Notice and request for comments.

SUMMARY: In accordance with the Paperwork Reduction Act of 1995 and the Office of Management and Budget (OMB) regulations, this notice announces the intention of Food Safety and Inspection Service (FSIS) to request information collection regarding industry practices specific to meat, poultry, and egg products. Also, in this same issue of the Federal Register FSIS is publishing a notice of request for new information collection regarding consumer practices, concerns, and awareness, specific to meat, poultry, and egg products.

DATES: Comments on this notice must be received on or before August 26, 2002.

ADDITIONAL INFORMATION OR COMMENTS: Contact Lee Puricelli, Paperwork Specialist, Food Safety and Inspection Service, USDA, 300 12th Street, SW, Room 109, Washington, DC 20250-3700, (202) 720-0346.

SUPPLEMENTARY INFORMATION: Title: Industry Stakeholder Survey.

Expiration Date of Approval: 3 years.

Type of Request: Regular.

Abstract: FSIS has been delegated the authority to exercise the functions of the Secretary as provided in the Federal Meat Inspection Act (FMIA) (21 U.S.C. 601 et seq.), the Poultry Products Inspection Act (PPIA) (21 U.S.C. 451, et seq.), and the Egg Products Inspection Act (EPIA) (21 U.S.C. 1031-1056). These statutes provide that FSIS is to protect the public by ensuring that meat, poultry, and egg products are safe, wholesome, unadulterated, and properly labeled and packaged.

Executive Order 12866, the Regulatory Flexibility Act (RFA), and the Small Business Regulatory Enforcement Fairness Act of 1996 (SBREFA) direct Federal agencies to conduct regulatory impact analysis, and to consider flexible regulatory approaches. In order to perform these mandatory analyses it is often necessary to survey regulated industry to determine existing practices, and the changes in those practices, likely under various policy options.

FSIS is seeking OMB clearance to conduct surveys to implement Executive Order 12866, RFA, and SBREFA. Participation in the surveys will be voluntary. FSIS will use the information gathered from these surveys to identify current business practices. FSIS projects 1 survey per year, with a sample of about 200 to 1,000 respondents for each mail survey. FSIS will target the questions to the appropriate sample population to reduce response burden.

Estimate of Burden: The public reporting burden for this collection of information is estimated to average ½ hour per response.

Respondents: regulated industry, health and science professionals, consumers.

Estimated Number of Respondents: 3000.

Estimated Number of Responses per Respondent: 1.

Estimated Total Annual Burden on Respondents: 1500 hours.

Copies of this information collection assessment can be obtained from Lee Puricelli. See ADDITIONAL INFORMATION OR COMMENTS.

Comments are invited on: (a) Whether the proposed collection of information is necessary for the proper performance of FSIS' functions, including whether the information will have practical utility; (b) the accuracy of FSIS' estimate of the burden of the proposed collection of information, including the validity of the methodology and assumptions used; (c) ways to enhance the quality, utility, and clarity of the information to be collected; and (d) ways to minimize the burden of the collection of information on those who are to respond, including thorough use of appropriate automated, electronic, mechanical, or other technological collection techniques, or other forms of information technology. Comments may be sent to both Lee Puricelli at the address provided above, and the Desk Officer for Agriculture, Office of Information and Regulatory Affairs, Office of Management and Budget, Washington, DC 20253.

All responses to this notice will be summarized and included in the request for OMB approval. All comments will also become a matter of public record.

Additional Public Notification

Public awareness of all segments of rulemaking and policy development is important. Consequently, in an effort to better ensure that minorities, women, and persons with disabilities are aware of this notice, FSIS will announce it and make copies of this Federal Register publication available through the FSIS Constituent Update. FSIS provides a weekly Constituent Update, which is communicated via Listserv, a free e-mail subscription service. In addition, the update is available on-line through the FSIS web page located at http://www.fsis.usda.gov. The update is used to provide information regarding FSIS policies, procedures, regulations, Federal Register notices, FSIS public meetings, recalls, and any other types of information that could effect or would be of interest to our constituents/stakeholders. The constituent Listserv consists of industry, trade, and farm groups, consumer interest groups, allied health professionals, scientific professionals, and other individuals that have requested to be included. Through the Listerv and web page, FSIS is able to provide information to a much broader, more diverse audience.

For more information contact the Congressional and Public Affairs Office, at (202) 720-9113. To be added to the free e-mail subscription service (Listserv) go to the “Constituent Update” page on the FSIS web site at http://www.fsis.usda.gov/oa/update/update.htm. Click on the “Subscribe to the Constituent Update Listserv” link, then fill out and submit the form.

Done at Washington DC, on May 31, 2002.
William J. Hudnall,
Acting Administrator.

[FR Doc. 02-16194 Filed 6-26-02; 8:45 am]

BILLING CODE 3410-DM-P